DEPARTMENT OF THE INTERIOR

National Park Service

[NPS-WASO-NAGPRA-NPS0032452; PPWOCRADN0-PCU00RP14.R50000]

Notice of Intent To Repatriate Cultural Items: Gilcrease Museum, Tulsa, OK

AGENCY: National Park Service, Interior.

ACTION: Notice.

SUMMARY: The Gilcrease Museum, in consultation with the appropriate Indian Tribes or Native Hawaiian organizations, has determined that the cultural items listed in this notice meet the definition of objects of cultural patrimony. Lineal descendants or representatives of any Indian Tribe or Native Hawaiian organization not identified in this notice that wish to claim these cultural items should submit a written request to the Gilcrease Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Gilcrease Museum at the address in this notice by September 24, 2021.

FOR FURTHER INFORMATION CONTACT: Laura Bryant, Gilcrease Museum, 1400 N Gilcrease Museum Road, Tulsa, OK 74127, telephone (918) 596-2747, email laura-bryant@utulsa.edu.

SUPPLEMENTARY INFORMATION: Notice is here given in accordance with the Native American Graves Protection and Repatriation Act (NAGPRA), 25 U.S.C. 3005, of the intent to repatriate cultural items under the control of the Gilcrease Museum, Tulsa, OK, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At an unknown date, two cultural items were separated from a Pawnee community. These items were likely purchased from a collector by Thomas Gilcrease sometime during the mid-20th century. In 1955 and 1962, Gilcrease transferred these items along with the rest of his collection to the City of Tulsa, which owns the Gilcrease Museum. The two objects of cultural patrimony are bear claw and otter fur necklaces (accession numbers 84.2159 and 84.812) of 19th century-circa 1900 date.

In 1971, one cultural item was separated from its Pawnee family caretaker, who likely resided in Oklahoma. The item was given by Brummett Echohawk to the Gilcrease Museum. The one object of cultural patrimony is a medicine bundle (accession number 84.1755) made in Nebraska and dating to circa 1850.

At an unknown date, one cultural item was separated from its Pawnee caretaker—a family headed by Jim Little Sun—whose place of residence is unknown. The item was likely purchased from a collector by Thomas Gilcrease sometime during the mid-20th century. In 1955 or 1962, Gilcrease transferred this item to the City of Tulsa, which owns the Gilcrease Museum. The one object of cultural patrimony is a medicine kit (accession number 84.2295a-m) dating to circa 1900.

In the 1960s or early 1970s, two cultural items were separated from a Pawnee community likely located in Oklahoma. They were purchased from a pawn shop in Ralston, Oklahoma by Ben Stone, a schoolteacher from Claremore, Oklahoma. In the early 1970s, Stone donated these items to the Gilcrease Museum. The two objects of cultural patrimony are Hako bundles.

Documentation and records at the museum identify all the above listed items as Pawnee. Through consultation, these were determined to be culturally affiliated with the Pawnee Nation of Oklahoma and were identified as objects of cultural patrimony.

Determinations Made by the Gilcrease Museum

Officials of the Gilcrease Museum have determined that:

• Pursuant to 25 U.S.C. 3001(3)(D), the six cultural items described above have ongoing historical, traditional, or cultural importance central to the Native American group or culture itself, rather than property owned by an individual.

• Pursuant to 25 U.S.C. 3001(2), there is a relationship of shared group identity that can be reasonably traced between the objects of cultural patrimony and the Pawnee Nation of Oklahoma.

Additional Requestors and Disposition

Lineal descendants or representatives of any Indian Tribe or Native Hawaiian organization not identified in this notice that wish to claim these cultural items should submit a written request with information in support of the claim to Laura Bryant, Gilcrease Museum, 1400 N Gilcrease Museum Road, Tulsa, OK 74127, telephone (918) 596-2747, email laura-bryant@utulsa.edu, by September 24, 2021. After that date, if no additional claimants have come forward, transfer of control of the objects of cultural patrimony to the Pawnee Nation of Oklahoma may proceed.

The Gilcrease Museum is responsible for notifying the Pawnee Nation of Oklahoma that this notice has been published.

Dated: August 11, 2021.
Melanie O'Brien,
Manager, National NAGPRA Program.

[FR Doc. 2021-18269 Filed 8-24-21; 8:45 am]

BILLING CODE 4312-52-P